DEPARTMENT OF HEALTH AND HUMAN SERVICES

Centers for Disease Control and Prevention

Final Selection Criteria and Solicitation of Nominations for Chemicals or Categories of Environmental Chemicals for Analytic Development and Inclusion in Future Releases of the National Report on Human Exposure to Environmental Chemicals

AGENCY: Centers for Disease Control and Prevention (CDC), Health and Human Services (HHS).

ACTION: Notice.

SUMMARY: On Wednesday, March 20, 2002, CDC sought public comment on its proposed criteria for selecting environmental chemicals or categories of chemicals for inclusion in future releases of the National Report on Human Exposure to Environmental Chemicals (the “Report”). (See Federal Register, Vol. 67, No. 54, p. 12996). In response to the comments received, CDC now provides the final selection criteria and solicits public nominations for categories of chemicals to be included in future issues of the “Report.” The selection criteria, which will be used by experts to prioritize the nominated chemicals for analytic development and for inclusion in future issues of the “Report,” are as follows: (1) Independent scientific data which suggest that the potential for exposure of the U.S. population to a particular chemical is changing (i.e., increasing or decreasing) or persisting; (2) seriousness of health effects known or suspected to result from exposure to the chemical (for example, cancer, birth defects, or other serious health effects); (3) proportion of the U.S. population likely to be exposed to levels of chemicals of known or potential health significance; (4) need to assess the efficacy of public health actions to reduce exposure to a chemical in the U.S. population or a large component of the U.S. population (for example, among children, women of childbearing age, the elderly); (5) existence of an analytical method that can measure the chemical or its metabolite in blood or urine with adequate accuracy, precision, sensitivity, specificity, and speed; and (6) incremental analytical cost (in dollars and personnel) to perform the analyses (preference is given to chemicals that can be added readily to existing analytical methods).

CDC welcomes all nominations: those persons who wish to nominate a chemical or chemical category (for example, pesticides, fumigants) should use the structural name (for example, 2,3,7,8-tetrachlorodibenzo-p-dioxin). Do not submit chemicals by their product names because chemical products are most commonly mixtures of chemicals. Nominators should indicate which of the selection criteria the chemical or categories of chemicals satisfy and should provide as much information as possible about the chemical or chemical category, including references and Chemical Abstracts Service (CAS) numbers. A CAS number is a unique number assigned to a given compound by the Chemical Abstracts Service, a division of the American Chemical Society. This number is also known as the CAS registry number (CAS RN). You may verify spellings of chemical names and CAS numbers by referring to Hawley's Condensed Chemical Dictionary (published by John Wiley and Sons; ISBN: 0471387355) or by searching Web sites such as the following: http://www.chemfinder.com, http://www.chemindustry.com/chemicals/index.asp, http://webbool.nist.gov/chemistry/name-ser.html, or http://db.chemsources.com/chemsources/chemfind.htm. The more information nominators provide, the more efficiently the nominated chemical will move through the selection process.

For each criterion, a panel of experts will score nominated chemicals on a scale of 1 to 5, with a higher score indicating higher priority. For each criterion, the score will be multiplied by the weighting factor for the criterion (criteria 1-3 each have weights of 25, criteria 4 and 5 have weights of 10 each, and criterion 6 has a weight of 5) and the weighted score summed to obtain a final point score for each chemical or chemical category. The maximum final point score is 500, which would result from a scoring of 5 for each of the six criteria. On the basis of its final point score, a chemical will be placed in one of five priority groups (e.g., priority group 1, priority group 2, and so on). CDC will report each chemical or chemical category evaluated along with the priority group to which it was assigned. This information will appear in the Federal Register and on CDC's Web site at this address: http://www.cdc.gov/nceh/dls/report/selectedchemicals. CDC's intent is to maintain a transparent process and to be good steward of the data it produces.

To that end, CDC will publish additional notices in the Federal Register as needed to keep the public abreast of progress on the nomination of chemicals for future issues of the “Report.”

DATES: Submit nominations on or before December 6, 2002.

ADDRESSES: Address all nominations related to this notice to Dorothy Sussman, Centers for Disease Control and Prevention, National Center for Environmental Health, Division of Laboratory Sciences, Mail Stop F-20, 4770 Buford Highway, Atlanta, Georgia 30341. Nominations may also be made via e-mail to this address: ncehdls@cdc.gov.

FOR FURTHER INFORMATION CONTACT: Technical Information: Dr. Richard Wang, Telephone 770-488-7950.

SUPPLEMENTARY INFORMATION: CDC publishes the “Report” under the authorities 42 U.S.C. 241 and 42 U.S.C. 242k. The “Report” provides an ongoing assessment using biomonitoring of the exposure of the noninstitutionalized, civilian population to environmental chemicals. Biomonitoring assesses human exposure to chemicals by measuring the chemicals or their breakdown products in human specimens such as blood or urine. For the “Report,” an environmental chemical means a chemical compound or chemical element present in air, water, soil, dust, food, or other environmental medium. The “Report” provides exposure information about participants in an ongoing national survey known as the National Health and Nutrition Examination Survey (NHANES). This survey is conducted by CDC's National Center for Health Statistics; measurements are conducted by CDC's National Center for Environmental Health. The first “Report,” published in March 2001, gave information about levels of 27 chemicals found in the U.S. population. This “Report” can be obtained in the following ways: access http://www.cdc.gov/nceh/dls/report/; e-mail ncehdls@cdc.gov; or telephone 1-866-670-6052. The second “Report,” which will be issued in late fall of 2002, will include information about at least 75 chemicals. In addition to new data on those chemicals that appeared in the first “Report,” information on the following categories of chemicals will be in the second “Report': polycyclic aromatic hydrocarbons (PAHs), co-planar and non-coplanar polychlorinated biphenyls (PCBs), persistent organochlorine pesticides, carbamate pesticides, dioxins and furans, and phytoestrogens.

Future editions of the “Report” will provide detailed assessments of exposure levels among different population groups defined by sex, race or ethnicity, age, urban or rural residence, educational level, income, and other characteristics. Over time, CDC will be able to track trends in exposure levels. Future editions may also include additional exposure information for special-exposure populations (e.g., children, women of childbearing age, the elderly) from studies of people through localized or point sources, and from studies of adverse health effects resulting from exposure to varying levels of environmental chemicals.

Dated: September 30, 2002.
Verla S. Neslund,
Director, Executive Secretariat, Centers for Disease Control and Prevention (CDC).

[FR Doc. 02-25374 Filed 10-4-02; 8:45 am]

BILLING CODE 4163-18-P